NUCLEAR REGULATORY COMMISSION

[NRC-2012-0220]

Standard Review Plan for License Applications for Fuel Cycle Facilities

AGENCY: Nuclear Regulatory Commission.

ACTION: Draft NUREG; extension of comment period.

SUMMARY: On June 5, 2014, the U.S. Nuclear Regulatory Commission (NRC) solicited comments on draft NUREG-1520, Revision 2, titled “Standard Review Plan [SRP] for License Applications for Fuel Cycle Facilities.” The public comment period was originally scheduled to close on September 3, 2014. The NRC has decided to extend the public comment period on this document to allow more time for members of the public to develop and submit their comments.

DATES: The due date for comments requested in the document published on June 5, 2014 (79 FR 32579) is extended. Comments must be filed no later than November 3, 2014. Comments received after this date will be considered if it is practical to do so, but the NRC is able to ensure consideration only for comments received before this date.

ADDRESSES: You may submit comments by any of the following methods (unless this document describes a different method for submitting comments on a specific subject):

• Federal Rulemaking Web site: Go to http://www.regulations.gov and search for Docket ID NRC-2012-0220. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN, 06-A44, U.S. Nuclear Regulatory Commission, Washington, DC 20555-0001.

For additional direction on obtaining information and submitting comments, see “Obtaining Information and Submitting Comments” in the SUPPLEMENTARY INFORMATION section below.

FOR FURTHER INFORMATION CONTACT: Soly I. Soto, Office of Nuclear Material Safety and Safeguards, U.S. Nuclear Regulatory Commission, Washington, DC 20555-0001; telephone: 301-287-9076, email: Soly.Soto@nrc.gov.

SUPPLEMENTARY INFORMATION:

I. Obtaining Information and Submitting Comments

A. Obtaining Information

Please refer to Docket ID NRC-2012-0220 when contacting the NRC about the availability of information regarding NUREG-1520. You may obtain publicly-available information related to this action by the following methods:

• Federal Rulemaking Web site: Go to http://www.regulations.gov and search for Docket ID NRC-2012-0220.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Draft NUREG-1520, Revision 2, is available in ADAMS under Accession No. ML14150A417.

• NRC's PDR: You may examine and purchase copies of public documents at the NRC's PDR, Room O1-F21, One White Flint North, 11555 Rockville Pike, Rockville, Maryland 20852.

B. Submitting Comments

Please include Docket ID NRC-2012-0220 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

On June 5, 2014 (79 FR 32579), the NRC solicited comments on draft NUREG-1520, Revision 2, titled “Standard Review Plan for License Applications for Fuel Cycle Facilities.” This SRP provides NRC staff guidance for reviewing and evaluating the safety, health, security and environmental protection aspects of applications for licenses to possess and use special nuclear material (SNM) at fuel cycle facilities. The public comment period originally was scheduled to close on September 3, 2014. However, the NRC is planning to schedule a public meeting around September 2014 and has decided to extend the public comment period on this document to allow more time for members of the public to incorporate information shared at this public meeting as they develop and submit their comments. The deadline for submitting comments will be extended to November 3, 2014. A public meeting notice will be published in the future to announce the day of the meeting.

Dated at Rockville, Maryland, this 29th day of July 2014.
For the Nuclear Regulatory Commission.
Marissa G. Bailey,
Director, Division of Fuel Cycle Safety and Safeguards, Office of Nuclear Material Safety and Safeguards.

[FR Doc. 2014-18622 Filed 8-5-14; 8:45 am]

BILLING CODE 7590-01-P